DEPARTMENT OF THE INTERIOR

Bureau of Indian Affairs

Notice of Availability of the Final Environmental Impact Statement for the proposed White River Amphitheatre, Muckleshoot Indian Reservation, King County, WA

AGENCY: Bureau of Indian Affairs, Interior.

ACTION: Notice.

SUMMARY: This notice advises the public that the Bureau of Indian Affairs (BIA) intends to file a Final Environmental Impact Statement (FEIS) for the proposed White River Amphitheatre with the U.S. Environmental Protection Agency (EPA), and that the FEIS is now available for final public review. The proposed BIA action is to take into trust the land upon which the Muckleshoot Indian Tribe (Tribe) proposes to construct and operate a 20,000 seat amphitheatre. The purpose of the proposed action is to meet the needs for an economically competitive performing arts center for the greater Seattle-Tacoma concert market and a place for cultural, educational and community events for the Tribe. The FEIS was prepared cooperatively among the BIA, EPA, U.S. Army Corps of Engineers (Corps) and Washington Department of Transportation (WSDOT), with the BIA acting as the lead agency under the court order in United States ex rel. Citizens for Safety & Environment v. Bill Graham Enterprises, Inc., No. C97-1775C (W.D. Wash., April 17, 1998).

DATES: Comments on the Final Environmental Impact Statement are due on or before May 13, 2002. A Record of Decision will be issued after May 13, 2002.

ADDRESSES: You may mail or hand carry written comments to Stanley Speaks, Portland Regional Director, Bureau of Indian Affairs, 911 N.E. 11th Avenue, Portland, Oregon 97232-4169.

Copies of this FEIS may be obtained from June Boynton, NEPA Coordinator, Bureau of Indian Affairs, Northwest Region, at (503) 231-6749; or from Dean Torkko, EIS Coordinator, Washington State Department of Transportation, at (206) 440-4520, or via e-mail at torkkod@wsdot.wa.gov. Copies of the FEIS have already been sent to all agencies and individuals who participated in the scoping process or public hearings, who commented on the Draft EIS (DEIS), or who have already requested copies of the document.

FOR FURTHER INFORMATION CONTACT: June Boynton, (503) 231-6749.

SUPPLEMENTARY INFORMATION: Two federal actions are involved in the proposed construction of an outdoor amphitheatre in the southeastern portion of the Muckleshoot Indian Reservation, between the cities of Auburn and Enumclaw, King County, Washington. One is the BIA's decision whether to take into trust 324 acres of tribally owned fee land, on which the amphitheatre would be built. The other is the issuance by the Corps to the Tribe of a wetland fill permit under section 404 of the Clean Water Act (33 U.S.C. 1251 et seq.). The Corps will rely on this FEIS for their decision on the 404 permit. In addition, the FEIS will satisfy requirements of the Washington State Environmental Policy Act.

The FEIS presents a preferred alternative, no action alternative and three other alternatives. The preferred alternative calls for developing approximately 71 acres for a 20,000 seat amphitheatre, support facilities and surface parking, plus 17 acres for landscaping and buffers, including a shielding berm along the southern boundary. The amphitheatre would have a main stage, a 10,000 seat bowl with fixed seating, a grass berm for informal lawn seating and an open air roof over the stage and fixed seating. Support facilities include a ticket and administrative office, a loading dock, a hospitality area for performers, a restaurant, cafes, concession stands and public rest rooms.

The no action alternative for the BIA assumes that the 324 acres would not be taken into trust and that no new highway access permits would be granted by the State of Washington. It also assumes that the amphitheatre would not be built at any other proposed site. The partially constructed facilities on the site (see discussion of site restoration alternative below) would not be completed as an amphitheatre, though may eventually be converted to other uses in the future.

For the purposes of the Corps Section 404 Permit, the no action alternative represents a “retain existing work” alternative. Previously disturbed wetlands would be restored, but some buffers would not, and compensatory mitigation would not be constructed.

The three other alternatives include (1) the “combined gravel quarry” alternative, which is an alternate location where a 20,000 seat amphitheatre like that in the preferred alternative would displace existing gravel quarrying operations; (2) a 10,000 seat alternative that would develop a smaller amphitheatre with an open air roof and support facilities similar to those for the preferred alternative, but with about one-half the parking capacity; and (3) a site restoration alternative where the partially completed facilities on the site of the preferred alternative would be removed and the site restored to a condition similar to its condition before construction was started. (This alternative is the Corps' no action alternative for purposes of the Section 404 permitting process, and also assumes that the amphitheatre would not be constructed at any of the proposed sites.)

The environmental issues addressed in the FEIS include traffic, noise, crime, water quality and quantity, wetlands, fish, wildlife and endangered species, geology, sewage disposal, air quality, cultural resources, land use, socio-economics, public safety, range of alternatives, and cumulative impacts. All of these issues were identified during public scoping and addressed in the DEIS. Consultation under the Endangered Species Act was completed with the U.S. Fish and Wildlife Service for bull trout and with the National Marine Fisheries Service (NMFS) for chinook salmon after the DEIS was issued. Essential fish habitat consultation under the Magnuson-Stevens Fishery Conservation and Management Act was also completed with NMFS.

The BIA has afforded other government agencies and the public ample opportunity to participate in the preparation of this FEIS. A Notice of Intent to prepare the EIS, including notice of a public scoping meeting to be held on July 15, 1998, was published in the Federal Register on July 1, 1998 (63 FR 35939). The public comment period for scoping, including an extension, was open until August 3, 1998. The Notice of Availability for the DEIS was published in the Federal Register on August 27, 1999 (64 FR 46932). It provided a 60-day comment period, which was later extended for an additional 30 days. A public hearing on the DEIS was held on September 22, 1999, in Auburn, Washington.

Public Comment Availability

Comments, including names and home addresses of respondents, will be available for public review at the above address during regular business hours, 7:30 a.m. to 4:30 p.m., Monday through Friday, except holidays. Individual respondents may request confidentiality. If you wish to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR parts 1500 through 1508), implementing the procedural requirements of NEPA, and the Department of the Interior Manual (516 DM 1-6), and is in the exercise of authority delegated to the Assistant Secretary—Indian Affairs by 209 DM 8.1.

Dated: April 1, 2002.
Neal A. McCaleb,
Assistant Secretary—Indian Affairs.

[FR Doc. 02-8854 Filed 4-11-02; 8:45 am]

BILLING CODE 4310-W7-P